DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before February 11, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on January 5, 2021.
Donald P. Burger,
Chief, General Approvals and Permits Branch.

Application No. | Applicant | Regulation(s) affected | Nature of the special permits thereof
SPECIAL PERMITS DATA
21152-N | Halendt Solutions, LLC | 180.205 | To authorize transportation in commerce certain gasses in cylinders produced in accordance with specification 3A, 3AX. 3AA, 3AAX, 3T and UN-ISO cylinders made in accordance with ISO 11120, having been requalified by acoustic emission (AE) and ultrasonic examination (UE). (modes 1, 2, 3, 4, 5)
21153-N | BVI Medical, Inc | 171.24(d)(2), 173.302(f) | To authorize the transportation in commerce of oxidizing gases contained in small pressure vessels via cargo-only aircraft. (mode 4)
21154-N | Erickson Incorporated | 172.101(j), 172.200, 172.301(c), 172.302(c), 173.315(j)(1), 175.30 | To authorize the transportation in commerce of certain materials attached to or suspended from an aircraft in support of construction operations when no other suitable means are available or impracticable or when an aircraft is the only safe means of transportation without being subject to certain hazard communication requirements, quantity limitations, packing or loading and storage requirements. (mode 4)
21155-N | Aithre, Inc. | 172.301(c), 173.302a(a)(1), 180.205 | To authorize the manufacture, mark, sale, and use non-DOT specification fully wrapped carbon-fiber reinforced aluminum lined cylinders for the transportation in commerce of UN1072 compressed oxygen. (modes 1, 2, 3).
21157-N | Innophos, Inc |  | To authorize the transportation in commerce of polyphosphoric acid in non-authorized specification packaging. (mode 1)
21159-N | Aithre, Inc | 172.301(c), 173.302a(a)(1), 180.205 | To authorize the transportation in commerce of non-DOT specification cylinders containing oxygen. (modes 1, 2, 3)
21160-N | Alliant Techsystems Operations LLC | 173.185(a)(1) | To authorize the transportation in commerce of lithium batteries, that are not of a type proven to have passed the requirements of 38.3 in the UN Manual of Tests and Criteria, when contained in a subassembly. (modes 1, 4)
21161-N | Structure Probe, Inc | 172.101(j) | To authorize the transportation in commerce of asbestos via passenger and cargo-only aircraft. (mode 4)
21162-N | Hexagon Masterworks, Inc | 173.301(a)(1) | To authorize the transportation in commerce of partially filled composite cylinders with Hydrogen gas with a maximum charged pressure less than 5% of the COPV designed service/operating pressure. (modes 1, 2, 3, 4)
21163-N | United Initiators, Inc | 178.345-10(b)(1) | To authorize the transportation in commerce of organic peroxides in cargo tank motor vehicles that utilize alternative pressure relief devices, specifically 4—12” diameter rupture disks in lieu of the prescribed reclosing PRD. (mode 1)
21165-N | North Carolina Department of Agriculture & Consumer Services | 172.400 | To authorize one-time transportation by highway of certain biological and infectious substances, dilute pesticide solutions and small quantities of laboratory reference standard materials from two adjacent facilities to newly constructed facility. (mode 1)
21167-N | KULR Technology Corporation | 173.185(a)(1) | To authorize the manufacture, mark, sale, and use of alternative packaging for shipments of prototype and low production lithium batteries. (modes 1, 2, 3, 4)
21168-N | Nexair, LLC | 172.203(a), 180.205(c), 180.209(a), 180.209(b)(1), 180.209(b)(1)(iv) | To authorize the transportation in commerce of certain Division 2.1 and 2.2 hazardous materials in DOT Specification 3AL cylinders, cylinders manufactured under DOT-SP 12440, and ISO 7866 cylinders that are requalified every ten years rather than every five years using 100% ultrasonic examination. (modes 1, 2, 3, 4, 5)
21169-N | Americase, LLC | 172.200, 172.700(a) | To authorize the manufacture, mark, sale, and use of thermal packaging for the purpose of shipping lithium batteries for recycling. Shipments are provided limited relief from the shipping papers and training required in 49 CFR Subparts C and H of Part 172 of the HMR. (modes 1, 2, 3)

[FR Doc. 2021-00400 Filed 1-11-21; 8:45 am]

BILLING CODE 4909-60-P